DEPARTMENT OF DEFENSE

Office of the Secretary

Federal Advisory Committee; Strategic Environmental Research and Development Program (SERDP), Scientific Advisory Board

AGENCY: Department of Defense (DoD).

ACTION: Notice.

SUMMARY: This notice is published in accordance with section 10(a)(2) of the Federal Advisory Committee Act (Pub. L. 92-463). The topic of the meeting on September 14-16, 2010, is to review new start research and development projects requesting Strategic Environmental Research and Development Program (SERDP) funds in excess of $1M. This meeting is open to the public. Any interested person may attend, appear before, or file statements with the Scientific Advisory Board at the time and in the manner permitted by the Board.

DATES: The meeting will be held Tuesday, September 14, 2010 from 8:30 a.m. to 5 p.m., Wednesday, September 15, 2010 from 9 a.m. to 5 p.m. and Thursday, September 16, 2010 from 8:30 a.m. to 11 a.m.

ADDRESSES: The meeting will be held at SERDP Office Conference Center, 901 North Stuart Street, Suite 804, Arlington, VA 22203.

FOR FURTHER INFORMATION CONTACT: Mr. Jonathan Bunger, SERDP Office, 901 North Stuart Street, Suite 303, Arlington, VA or by telephone at (703) 696-2126.

Dated: August 12, 2010.
Mitchell S. Bryman,
Alternate OSD Federal Register Liaison Officer, Department of Defense.

[FR Doc. 2010-20254 Filed 8-16-10; 8:45 am]

BILLING CODE 5001-06-P